Title 3—

The President

Executive Order 14228 of March 3, 2025

Further Amendment to Duties Addressing the Synthetic Opioid Supply Chain in the People's Republic of China

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby determine and order:

Section 1. Background. With Executive Order 14195 of February 1, 2025 (Imposing Duties to Address the Synthetic Opioid Supply Chain in the People's Republic of China), I determined that the failure of the Government of the People's Republic of China (PRC) to act to blunt the sustained influx of synthetic opioids, including fentanyl, flowing from the PRC to the United States constituted an unusual and extraordinary threat, which has its source in substantial part outside the United States, to the national security, foreign policy, and economy of the United States. To address that threat, I invoked my authority under section 1702(a)(1)(B) of IEEPA to impose ad valorem tariffs on articles that are products of the PRC, as defined by the Federal Register notice described in section 2(d) of Executive Order 14195, as amended by Executive Order 14200 of February 5, 2025 (Amendment to Duties Addressing the Synthetic Opioid Supply Chain in the People's Republic of China).

Pursuant to section 3 of Executive Order 14195, I have determined that the PRC has not taken adequate steps to alleviate the illicit drug crisis through cooperative enforcement actions, and that the crisis described in Executive Order 14195 has not abated.

Sec. 2. Amendment. In recognition of the fact that the PRC has not taken adequate steps to alleviate the illicit drug crisis, section 2(a) of Executive Order 14195 is hereby amended by striking the words “10 percent” and inserting in lieu thereof the words “20 percent”.

Sec. 3. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 3, 2025.

[FR Doc. 2025-03775

Filed 3-6-25; 8:45 am]

Billing code 3395-F4-P